DEPARTMENT OF TRANSPORTATION

Federal Aviation Administration

14 CFR Part 39

[Docket No. 2004-CE-01-AD]

RIN 2120-AA64

Airworthiness Directives; Raytheon Aircraft Company Beech 100, 200, and 300 Series Airplanes

AGENCY: Federal Aviation Administration (FAA), DOT.

ACTION: Notice of proposed rulemaking (NPRM).

SUMMARY: The FAA proposes to supersede Airworthiness Directive (AD) 93-25-07, which applies to Raytheon Aircraft Company (Raytheon) Beech 100, 200, and 300 series airplanes. AD 93-25-07 currently requires you to repetitively inspect the fuselage stringers for cracks and modify at certain times depending on the number of cracked stringers. This proposed AD is the result of FAA's policy (since 1996) to not allow airplane operation when known cracks exist in primary structure. The fuselage structure is considered primary structure and operation is currently allowed for a certain period of time if less than five fuselage stringers are cracked. Consequently, this proposed AD would retain the inspection and modification requirements of AD 93-25-07, but would require you to repair any cracked fuselage stringers. We are issuing this proposed AD to detect and correct any cracked fuselage stringers in the rear pressure bulkhead area, which could result in structural damage to the fuselage. This damage could lead to failure of the fuselage with potential loss of control of the airplane.

DATES: We must receive any comments on this proposed AD by November 2, 2004.

ADDRESSES: Use one of the following to submit comments on this proposed AD:

• By mail: FAA, Central Region, Office of the Regional Counsel, Attention: Rules Docket No. 2004-CE-01-AD, 901 Locust, Room 506, Kansas City, Missouri 64106.

• By fax: (816) 329-3771.

• By e-mail: 9-ACE-7-Docket@faa.gov. Comments sent electronically must contain “Docket No. 2004-CE-01-AD” in the subject line. If you send comments electronically as attached electronic files, the files must be formatted in Microsoft Word 97 for Windows or ASCII.

You may get the service information identified in this proposed AD from Raytheon Aircraft Company, 9709 E. Central, Wichita, Kansas 67201-0085; telephone: (800) 429-5372 or (316) 676-3140.

You may view the AD docket at FAA, Central Region, Office of the Regional Counsel, Attention: Rules Docket No. 2004-CE-01-AD, 901 Locust, Room 506, Kansas City, Missouri 64106. Office hours are 8 a.m. to 4 p.m., Monday through Friday, except Federal holidays.

FOR FURTHER INFORMATION CONTACT: Steven E. Potter, Aerospace Engineer, Wichita Aircraft Certification Office (ACO), FAA, 1801 Airport Road, Wichita, Kansas 67209; telephone: (316) 946-4124; facsimile: (316) 946-4107.

SUPPLEMENTARY INFORMATION:

Comments Invited

How do I comment on this proposed AD? We invite you to submit any written relevant data, views, or arguments regarding this proposal. Send your comments to an address listed under ADDRESSES. Include “AD Docket No. 2004-CE-01-AD” in the subject line of your comments. If you want us to acknowledge receipt of your mailed comments, send us a self-addressed, stamped postcard with the docket number written on it. We will date-stamp your postcard and mail it back to you.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

Has FAA taken any action to this point? Reports of cracks on the fuselage stringers in the rear pressure bulkhead area on Raytheon Beech 100, 200, and 300 series airplanes caused us to issue AD 93-25-07, Amendment 39-8773. AD 93-25-07 currently requires the following on Raytheon Beech Models 200, A200, B200, A100-1, 200C, A200C, B200C, 200CT, A200CT, B200CT, 200T, B200T, 300, B300, and B300C airplanes:

—Repetitive inspections of the fuselage stringers for cracks; and

—Modification at certain times depending on the number of cracked stringers.

What has happened since AD 93-25-07 to initiate this proposed action? As currently written, AD 93-25-07 allows continued flight if cracks are found in less than five fuselage stringers in the area of the rear pressure bulkhead. In 1996, FAA developed policy to not allow airplane operation when known cracks exist in primary structure, unless the ability to sustain limit and ultimate load with these cracks is proven. The fuselage stringers in the area of the rear pressure bulkhead are considered primary structure.

This proposed AD would bring the actions of AD 93-25-07 in compliance with FAA policy. Therefore, FAA has determined:

—That airplane operation on the affected airplanes should not be allowed for more than 25 hours time-in-service (TIS) if less than five fuselage stringers (Stringer Nos. 5 through 11) in the rear pressure bulkhead are cracked; and

—That no operation should be allowed until modification for any airplane with five or more cracked fuselage stringers (Stringer Nos. 5 through 11) in the rear pressure bulkhead.

The FAA has also identified other airplanes that should be affected by this action.

What is the potential impact if FAA took no action? Cracked fuselage stringers in the rear pressure bulkhead area, if not detected and corrected, could result in structural damage to the fuselage. This damage could lead to failure of the fuselage with potential loss of control of the airplane.

Is there service information that applies to this subject? Raytheon has issued Mandatory Service Bulletin SB 53-2472, Rev. 4, Revised: July, 2003.

What are the provisions of this service information? The service bulletin includes procedures for:

—Inspecting the fuselage stringers (Nos. 5 through 11) in the rear pressure bulkhead for cracks; and

—Incorporating a modification kit on any cracked fuselage stringer.

Determination and Requirements of This Proposed AD

What has FAA decided? We have evaluated all pertinent information and identified an unsafe condition that is likely to exist or develop on other products of this same type design. Therefore, we are proposing AD action.

What would this proposed AD require? This proposed AD would supersede AD 93-25-07 with a new AD that would retain the requirement of repetitively inspecting the fuselage stringers for cracks, but would require the repair of any cracked fuselage stringers. The FAA is proposing a grace period of 25 cycles for all airplanes with less than five cracked fuselage stringers. The repetitive inspections would no longer be required when all fuselage stringers (Nos. 5 though 11) in the rear pressure bulkhead are modified. The specific Raytheon Beech airplane models affected by this AD are as follows:

Model | Serial Nos.
A100-1 (U-21J) | BB-3 through BB-5.
200 and B200 | BB-2 and BB-6 through BB-1462.
A200 (C-12A) and A200 (C-12C) | BC-1 through BC-75 and BD-1 through BD-30.
A200C (UC-12B) | BJ-1 through BJ-66.
A200CT (C-12D) | BP-1, BP-22, and BP-24 through BP-51.
A200CT (FWC-12D) | BP-7 through BP-11.
A200CT (RC-12D) | GR-1 through GR-13.
A200CT (C-12F) | BP-52 through BP-63.
A200CT (RC-12G) | FC-1 and FC-3.
A200CT (RC-12H) | GR-14 through GR-19.
A200CT (RC-12K) | FE-1 through FE-9.
A200CT (RC-12P) | FE-10 through FE-24.
A200CT (RC-12K) | FE-25 through FE-31.
200C and B200C | BL-1 through BL-72 and BL-124 through BL-138.
200CT and B200CT | BN-1 through BN-4.
B200T and 200T | BT-1 through BT-38.
B200C (C-12F) | BL-73 through BL-112 and BL-118 through BL-123.
B200C (C-12F) | BP-64 through BP-71.
B200C (UC-12F) | BU-1 through BU-10.
B200C (UC-12M) | BV-1 through BV-12.
B200CT | FG-1 and FG-2.
300 | FA-1 through FA-228.
300 | FF-1 through FF-19.
B300 | FL-1 through FL-103.
B300C | FM-1 through FM-8.
B300C | FN-1.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 2,300 airplanes in the U.S. registry.

What would be the cost impact of this proposed AD on owners/operators of the affected airplanes? We estimate the following costs to do each proposed inspection:

Labor cost | Parts cost | Total cost per airplane | Total cost on U.S. operators
2 workhours at $65 per hour = $130 per airplane | No special parts necessary to do the inspection | $130 per airplane | $299,000

We estimate the following costs to incorporate the fuselage stringer repair kit that would be required based on the results of this proposed inspection. We have no way of determining the number of airplanes that may need this repair kit:

Labor cost | Parts cost | Total cost per airplane
11 workhours at $65 per hour = $715 per airplane | Approximately $200 per repair kit with one to three kits necessary depending on the extent of the cracks (possible total of $600 per airplane) | Ranging from $915 per airplane to $1,315 per airplane.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2004-CE-01-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 93-25-07, Amendment 39-8773, and by adding a new AD to read as follows:

Raytheon Aircraft Company: Docket No. 2004-CE-01-AD.

When Is the Last Date I Can Submit Comments on This Proposed AD?

(a) We must receive comments on this proposed airworthiness directive (AD) by November 2, 2004.

What Other ADs Are Affected By This Action?

(b) This AD supersedes AD 93-25-07, Amendment 39-8773.

What Airplanes Are Affected By This AD?

(c) This AD affects the following Beech airplane models and serial numbers that are certificated in any category:

Model | Serial Nos.
(1) A100-1 (U-21J) | BB-3 through BB-5.
(2) 200 and B200 | BB-2 and BB-6 through BB-1462.
(3) A200 (C-12A) and A200 (C-12C) | BC-1 through BC-75 and BD-1 through BD-30.
(4) A200C (UC-12B) | BJ-1 through BJ-66.
(5) A200CT (C-12D) | BP-1, BP-22, and BP-24 through BP-51.
(6) A200CT (FWC-12D) | BP-7 through BP-11.
(7) A200CT (RC-12D) | GR-1 through GR-13.
(8) A200CT (C-12F) | BP-52 through BP-63.
(9) A200CT (RC-12G) | FC-1 and FC-3.
(10) A200CT (RC-12H) | GR-14 through GR-19.
(11) A200CT (RC-12K) | FE-1 through FE-9.
(12) A200CT (RC-12P) | FE-10 through FE-24.
(13) A200CT (RC-12K) | FE-25 through FE-31.
(14) 200C and B200C | BL-1 through BL-72 and BL-124 through BL-138.
(15) 200CT and B200CT | BN-1 through BN-4.
(16) 200T and B200T | BT-1 through BT-38.
(17) B200C (C-12F) | BL-73 through BL-112 and BL-118 through BL-123.
(18) B200C (C-12F) | BP-64 through BP-71.
(19) B200C (UC-12F) | BU-1 through BU-10.
(20) B200C (UC-12M) | BV-1 through BV-12.
(21) B200CT | FG-1 and FG-2.
(22) 300 | FA-1 through FA-228.
(23) 300 | FF-1 through FF-19.
(24) B300 | FL-1 through FL-103.
(25) B300C | FM-1 through FM-8.
(26) B300C | FN-1.

What Is the Unsafe Condition Presented in This AD?

(d) As currently written, AD 93-25-07 allows continued flight if cracks are found in less than five fuselage stringers in the area of the rear pressure bulkhead. In 1996, FAA developed policy to not allow airplane operation when known cracks exist in primary structure, unless the ability to sustain limit and ultimate load with these cracks is proven. The fuselage stringers in the area of the rear pressure bulkhead are considered primary structure. This AD will bring the actions of AD 93-25-07 in compliance with FAA policy. The actions specified in this AD are intended to detect and correct any cracked fuselage stringers in the rear pressure bulkhead area, which could result in structural damage to the fuselage. This damage could lead to failure of the fuselage with potential loss of control of the airplane.

What Must I Do To Address This Problem?

(e) To address this problem, you must do the following:

Actions | Compliance | Procedures
(1) For airplanes that have known cracks that exist in any of the aft fuselage stringer locations (No. 5 through No. 11 on both the left-hand and right-hand sides). Either modify or incorporate repairs as specified below. These cracks could have been detected through compliance with AD 93-25-07 and/or Raytheon Mandatory Service Bulletin SB 53-2472, any revision level: (i) Incorporate the applicable modification kit or kits as specified in Raytheon Mandatory Service SB 53-2472, Rev. 4, Issued: June, 1993, Revised: 1993, Revised: July, 2003; or (ii) Incorporate external doubler repairs on all aft fuselage stringer locations (No. 5 through No. 11 on both the left-hand and right-hand sides). | If airplane has than five known cracked stringers: Within 25 cycles after the effective date of this AD, unless previously done. If cycles are unknown, then you may divide hours time-in-service (TIS) by .75 (18.75 hours TIS ÷ .75 = 25 cycles). If airplane has five or more known cracked stringers: Prior to further flight after the effective date of this AD, unless previously done. AD 93-25-07 already required this. | Incorporate the modification kit(s) following the procedures in Raytheon Mandatory Service Bulletin SB 53-2472, Rev. 4, Issued: June, 1993, Revised: July, 2003, Incorporate the external doubler repairs following the procedures in the maintenance manual.
(2) For all airplanes that do not have either the modifications or repairs specified in paragraphs (e)(1)(i) and (e)(1)(ii) of this AD incorporated in all aft fuselage stringer locations (No. 5 through No. 11 on both the left-hand and right-hand sides): Inspect these aft fuselage stringers. You may terminate the repetitive inspections when all aft fuselage stringer locations (No. 5 through No. 11 on both the left-hand and right-hand sides) are modified | For airplanes affected by AD 93-25-07: Initially inspect at the next inspection interval required by AD 93-25-07. Repetitively inspect thereafter at intervals not to exceed 500 cycles. If cycles are unknown, then you may divide hours time-in-service (TIS) by .75 (375 hours TIS ÷ .75 = 500 cycles). For airplanes not affected by AD 93-25-07: Initially inspect upon accumulating 2,500 cycles on the fuselage or within the next 25 cycles after the effective date of this AD, whichever occurs later, unless previously done. Repetitively inspect thereafter at intervals not to exceed 500 cycles. If cycles are unknown, then you may divide hours time-in-service (TIS) by .75 (1,875 hours TIS ÷ .75 = 2,500 cycles; 375 hours TIS ÷ .75 = 500 cycles; and 18.75 hours TIS ÷ .75 = 25 cycles) | Inspect following the procedures in Raytheon Mandatory Service Bulletin SB 53-2472, Rev. 4, Issued: June, 1993, Revised: July 2003.
(3) If any cracks are found during any inspection required by this AD, do one of the following: (i) Incorporate the applicable modification kit or kits as specified in Raytheon Mandatory Service Bulletin SB 53-2472, Rev. 4, Issued: June, 1993, Revised: July, 2003; or (ii) Incorporate external doubler repairs on all aft fuselage stringer locations (No. 5 through No. 11 on both the left-hand and right-hand sides). | If less than five cracked stringers are found: Within 25 cycles after the effective date of this AD, unless previously done. If cycles are unknown, then you may divide hours time-in-service (TIS) by .75 (18.75 hours TIS ÷ .75 = 25 cycles). If five or more cracked stringers are found: Prior to further flight after any inspection where five cracked stringers are found, unless previously done | Incorporate the modification kit(s) following the procedures in Raytheon Mandatory Service Bulletin SB 53-2472, Rev. 4, Issued: June, 1993, Revised: July, 2003. Incorporate the external doubler repairs following the procedures in the maintenance manual.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Steven E. Potter, Aerospace Engineer, Wichita Aircraft Certification Office (ACO), FAA, 1801 Airport Road, Wichita, Kansas 67209; telephone: (316) 946-4124; facsimile: (316) 946-4107.

May I Get Copies of the Documents Referenced in This AD?

(g) You may get copies of the documents referenced in this AD from Raytheon Aircraft Company, 9709 E. Central, Wichita, Kansas 67201-0085; telephone: (800) 429-5372 or (316) 676-3140. You may view these documents at FAA, Central Region, Office of the Regional Counsel, 901 Locust, Room 506, Kansas City, Missouri 64106.

Issued in Kansas City, Missouri, on September 8, 2004.
Dorenda D. Baker,
Manager, Small Airplane Directorate, Aircraft Certification Service.

[FR Doc. 04-20688 Filed 9-13-04; 8:45 am]

BILLING CODE 4910-13-P